DEPARTMENT OF HOMELAND SECURITY

Federal Emergency Management Agency

[Docket ID FEMA-2014-0002; Internal Agency Docket No. FEMA-B-1402]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR Part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information Exchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR Part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of Letter of Map Revision | Effective date of modification | Community No.
Louisiana:
Livingston | Unincorporated areas of Livingston Parish (13-06-4605P) | The Honorable Layton Ricks, Livingston Parish President, 20399 Government Road, Livingston, LA 70754 | Livingston Parish Building and Permits Department, 20399 Government Road, Livingston, LA 70754 | http://www.msc.fema.gov/lomc | April 11, 2014 | 220113
New Mexico:
Bernalillo | Unincorporated areas of Bernalillo County, (12-06-4069P) | The Honorable Maggie Hart Stebbins, Chairman, Bernalillo County Board of Commissioners, 1 Civic Plaza Northwest, Albuquerque, NM 87102 | Bernalillo County Public Works Division, 2400 Broadway Boulevard Southeast, Albuquerque, NM 87102 | http://www.msc.fema.gov/lomc | April 10, 2014 | 350001
New York:
Dutchess | Town of Fishkill, (13-02-1873P) | The Honorable Robert LaColla, Supervisor, Town of Fishkill, 807 Route 52, Fishkill, NY 12524 | Town Hall, 807 Route 52, Fishkill, NY 12524 | http://www.msc.fema.gov/lomc | April 2, 2014 | 361337
Dutchess | Town of Wappinger, (13-02-1873P) | The Honorable Barbara A. Gutzler, Supervisor, Town of Wappinger, 20 Middlebush Road, Wappingers Falls, NY 12590 | Wappinger Town Hall, 20 Middlebush Road, Wappingers Falls, NY 12590 | http://www.msc.fema.gov/lomc | April 2, 2014 | 361387
Oklahoma:
Tulsa | City of Tulsa, (13-06-2978P) | The Honorable Dewey F. Bartlett, Jr., Mayor, City of Tulsa, 175 East 2nd Street, Suite 690, Tulsa, OK 74103 | Engineering Services, 2317 South Jackson Avenue, Room S-312, Tulsa, OK 74107 | http://www.msc.fema.gov/lomc | April 7, 2014 | 405381
Pennsylvania:
Dauphin | Township of Lower Paxton, (13-03-2589P) | The Honorable William B. Hawk, Chairman, Township of Lower Paxton Board of Supervisors, 425 Prince Street, Harrisburg, PA 17109 | Lower Paxton Township Hall, 425 Prince Street, Harrisburg, PA 17109 | http://www.msc.fema.gov/lomc | April 2, 2014 | 420384
Texas:
Coleman | City of Coleman, (13-06-1326P) | The Honorable Kay Joffrion, Mayor, City of Coleman, P.O. Box 592, Coleman, TX 76834 | 200 West Liveoak Street, Coleman, TX 76834 | http://www.msc.fema.gov/lomc | April 17, 2014 | 480129
Williamson | City of Cedar Park, (13-06-2364P) | The Honorable Matt Powell, Mayor, City of Cedar Park, 450 Cypress Creek Road, Building 4, Cedar Park, TX 78613 | Engineering Department, 450 Cypress Creek Road, Building 1, Cedar Park, TX 78613 | http://www.msc.fema.gov/lomc | April 10, 2014 | 481282
Virginia:
Fairfax | Unincorporated areas of Fairfax County, (13-03-2194P) | Mr. Edward L. Long, Jr., Fairfax County Executive, 12000 Government Center Parkway, Fairfax, VA 22035 | Fairfax County, Stormwater Planning Division, 12000 Government Center Parkway, Suite 449, Fairfax, VA 22035 | http://www.msc.fema.gov/lomc | April 7, 2014 | 515525
Henrico | Unincorporated areas of Henrico County, (13-03-1863P) | Mr. John A. Vithoulkas, Henrico County Manager, P.O. Box 90775, Henrico, VA 23273 | Henrico County Government Center, 4301 East Parham Road, Henrico, VA 23228 | http://www.msc.fema.gov/lomc | April 7, 2014 | 510077
James City County | Unincorporated areas of James City County (12-03-2459P) | Mr. Robert C. Middaugh, James City County Administrator, P.O. Box 8784, Williamsburg, VA 23187 | James City County, 101 Mounts Bay Road, Building A, Williamsburg, VA 23185 | http://www.msc.fema.gov/lomc | March 6, 2014 | 510201
West Virginia:
Fayette | City of Montgomery, (13-03-2527P) | The Honorable James F. Higgins, Jr., Mayor, City of Montgomery, 706 3rd Avenue, Montgomery, WV 25136 | City Hall, 706 3rd Avenue, Montgomery, WV 25136 | http://www.msc.fema.gov/lomc | April 11, 2014 | 540029
Fayette | Town of Gauley Bridge, (13-03-2527P) | The Honorable John S. Kauff, Mayor, Town of Gauley Bridge, P.O. Box 490, Gauley Bridge, WV 25085 | Town Hall, 278 Railroad Street, Gauley Bridge, WV 25085 | http://www.msc.fema.gov/lomc | April 11, 2014 | 540294
Fayette | Town of Smithers, (13-03-2527P) | The Honorable Thomas Skaggs, Mayor, Town of Smithers, P.O. Box 489, Smithers, WV 25186 | Town Hall, 175 Michigan Avenue, Smithers, WV 25186 | http://www.msc.fema.gov/lomc | April 11, 2014 | 540033
Fayette | Unincorporated areas of Fayette County, (13-03-2527P) | The Honorable Matthew D. Wender, President, Fayette County Board of Commissioners, P.O. Box 307, Fayetteville, WV 25840 | Fayette County Safety Department, 100 Court Street, Fayetteville, WV 25840 | http://www.msc.fema.gov/lomc | April 11, 2014 | 540026

(Catalog of Federal Domestic Assistance No. 97.022, “Flood Insurance.”)

Dated: January 31, 2014.
Roy E. Wright,
Deputy Associate Administrator for Mitigation, Department of Homeland Security, Federal Emergency Management Agency.

[FR Doc. 2014-05713 Filed 3-14-14; 8:45 am]

BILLING CODE 9110-12-P